DEPARTMENT OF THE INTERIOR

National Park Service

[NPS-WASO-NRNHL-10608; 2200-3200-665]

National Register of Historic Places; Notification of Pending Nominations and Related Actions

Nominations for the following properties being considered for listing or related actions in the National Register were received by the National Park Service before June 9, 2012. Pursuant to section 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by July 24, 2012. Before including your address, phone number, email address, or other personal identifying information in your comment, you should be aware that your entire comment—including your personal identifying information—may be made publicly available at any time. While you can ask us in your comment to withhold your personal identifying information from public review, we cannot guarantee that we will be able to do so.

Dated: June 14, 2012.
J. Paul Loether,
Chief, National Register of Historic Places/National Historic Landmarks Program.

ARIZONA

Maricopa County

Sun City DEVCO Model No. 1, 10801 W. Oakmont Dr., Sun City, 12000422

Yuma County

Wadin, John, House, 900 W. 1st St., Yuma, 12000423

CALIFORNIA

San Francisco County

Drydock 4 Hunters Point Naval Shipyard, SE. of jct. of Spear Ave. & Morrell St., San Francisco, 12000424

Hunters Point Commercial Drydock Historic District, E. of jct. of Fisher Ave. & Robinson Dr., San Francisco, 12000425

LOUISIANA

Tangipahoa Parish

Ponchatoula Commercial Historic District (Boundary Increase and Decrease), 111, 180, 165, 138 N. 6th, 170, 175, 163-165, 138, 125 W. Hickory, 155 NW. Railroad Ave., 201, 245, 265, 275 W. Pine, Ponchatoula, 12000426

MINNESOTA

Beltrami County

Three Island Park Site (Woodland Tradition in Minnesota MPS), Address Restricted, Tenstrike, 12000427

Hennepin County

Quinlan, Elizabeth C., House, 1711 Emerson Ave., S., Minneapolis, 12000428

Redwood County

Redwood Falls Retaining Wall Roadside Development Project (Federal Relief Construction in Minnesota MPS), Jct. of MN 19 & 71, Redwood Falls, 12000429

MISSISSIPPI

De Soto County

Springhill Cemetery, College St. & W. Oak Grove Rd., Hernando, 12000430

Forrest County

Hub City Historic District (Boundary Increase II), Roughly bounded by E. 4th, Gordon, E. Front, Green, & Melrose Sts., Gordon's Cr., & 1st Ave., Hattiesburg, 12000431

Leake County

Carthage Historic District, Roughly bounded by E. & W. Water, Mill, N. & S. Jordon, N. Pearl, & N. & S. White Sts., Carthage, 12000432

Oktibbeha County

Downtown Starkville Historic District, Roughly bounded by Jefferson, N. Montgomery, & Yeates Sts., & RR., Starkville, 12000433

MISSOURI

Audrain County

Audrain County Courthouse, 101 N. Jefferson St., Mexico, 12000434

Greene County

Fallon Brothers Building (Springfield MPS), 211-229 S. Market Ave., Springfield, 12000435

St. Louis Independent City

Central States Life Insurance Company Building, 3207 Washington Blvd., St. Louis (Independent City), 12000436

OKLAHOMA

Comanche County

Comanche Indian Mission Cemetery, Henry Post Army Airfield, 4900 Area, Fort Sill, 12000437

RHODE ISLAND

Providence County

Downtown Providence Historic District (Boundary Increase), 250 & 254 Washington St., Providence, 12000438

SOUTH CAROLINA

Greenville County

Southern Bleachery and Print Works, 113 Mill St., Taylors, 12000439

TENNESSEE

Robertson County

Glenn, Mollie and Neel, House, 307 5th Ave., Springfield, 12000440

Shelby County

National Cotton Council Building, 1918 North Parkway, Memphis, 12000441

[FR Doc. 2012-16602 Filed 7-6-12; 8:45 am]

BILLING CODE 4312-51-P